DEPARTMENT OF TRANSPORTATION

Federal Aviation Administration

14 CFR Part 25

[Docket No. NM315; Special Conditions No. 25-327-SC]

Special Conditions: Airbus Model A380-800 Airplane; Emergency Exit Arrangement—Outside Viewing

AGENCY: Federal Aviation Administration (FAA), DOT.

ACTION: Final special conditions.

SUMMARY: These special conditions are issued for the Airbus A380-800 airplane. This airplane will have novel or unusual design features when compared to the state of technology envisioned in the airworthiness standards for transport category airplanes. Many of these novel or unusual design features are associated with the complex systems and the configuration of the airplane, including its full-length double deck. For these design features, the applicable airworthiness regulations do not contain adequate or appropriate safety standards regarding outside viewing from emergency exits. These special conditions contain the additional safety standards that the Administrator considers necessary to establish a level of safety equivalent to that established by the existing airworthiness standards. Additional special conditions will be issued for other novel or unusual design features of the Airbus Model A380-800 airplane.

DATES: Effective Date: The effective date of these special conditions is August 28, 2006.

FOR FURTHER INFORMATION CONTACT: Holly Thorson, FAA, International Branch, ANM-116, Transport Airplane Directorate, Aircraft Certification Service, 1601 Lind Avenue SW., Renton, Washington 98055-4056; telephone (425) 227-1357; facsimile (425) 227-1149.

SUPPLEMENTARY INFORMATION:

Background

Airbus applied for FAA certification/validation of the provisionally-designated Model A3XX-100 in its letter AI/L 810.0223/98, dated August 12, 1998, to the FAA. Application for certification by the Joint Aviation Authorities (JAA) of Europe had been made on January 16, 1998, reference AI/L 810.0019/98. In its letter to the FAA, Airbus requested an extension to the 5-year period for type certification in accordance with 14 CFR 21.17(c).

The request was for an extension to a 7-year period, using the date of the initial application letter to the JAA as the reference date. The reason given by Airbus for the request for extension is related to the technical challenges, complexity, and the number of new and novel features on the airplane. On November 12, 1998, the Manager, Aircraft Engineering Division, AIR-100, granted Airbus' request for the 7-year period, based on the date of application to the JAA.

In its letter AI/LE-A 828.0040/99 Issue 3, dated July 20, 2001, Airbus stated that its target date for type certification of the Model A380-800 had been moved from May 2005, to January 2006, to match the delivery date of the first production airplane. In a subsequent letter (AI/L 810.0223/98 issue 3, dated January 27, 2006), Airbus stated that its target date for type certification is October 2, 2006. In accordance with 14 CFR 21.17(d)(2), Airbus chose a new application date of December 20, 1999, and requested that the 7-year certification period which had already been approved be continued. The FAA has reviewed the part 25 certification basis for the Model A380-800 airplane, and no changes are required based on the new application date.

The Model A380-800 airplane will be an all-new, four-engine jet transport airplane with a full double-deck, two-aisle cabin. The maximum takeoff weight will be 1.235 million pounds with a typical three-class layout of 555 passengers.

Type Certification Basis

Under the provisions of 14 CFR 21.17, Airbus must show that the Model A380-800 airplane meets the applicable provisions of 14 CFR part 25, as amended by Amendments 25-1 through 25-98. If the Administrator finds that the applicable airworthiness regulations do not contain adequate or appropriate safety standards for the Airbus A380-800 airplane because of novel or unusual design features, special conditions are prescribed under the provisions of 14 CFR 21.16.

In addition to the applicable airworthiness regulations and special conditions, the Airbus Model A380-800 airplane must comply with the fuel vent and exhaust emission requirements of 14 CFR part 34 and the noise certification requirements of 14 CFR part 36. In addition, the FAA must issue a finding of regulatory adequacy pursuant to section 611 of Public Law 93-574, the “Noise Control Act of 1972.”

Special conditions, as defined in 14 CFR 11.19, are issued in accordance with 14 CFR 11.38 and become part of the type certification basis in accordance with 14 CFR 21.17(a)(2).

Special conditions are initially applicable to the model for which they are issued. Should the type certificate for that model be amended later to include any other model that incorporates the same novel or unusual design feature, the special conditions would also apply to the other model under the provisions of 14 CFR 21.101.

Discussion of Novel or Unusual Design Features

Emergency evacuations are generally associated with adverse conditions, such as a fire outside the airplane. Because those adverse conditions may pose an immediate threat to the occupants of the airplane, it is often necessary to avoid opening emergency exits that would otherwise be usable. For this reason, it would be extremely useful to have a viewing window or other means of assessing the outside conditions to determine whether to open a particular emergency exit.

The regulations governing the certification of the A380 do not adequately address a full-length double deck airplane in terms of the exit of passengers in an emergency and a viewing window or other means of assessing the outside conditions to determine whether to open an emergency exit. Therefore, special conditions are needed to ensure that each emergency exit has a means to permit viewing of the conditions outside the exit when the exit is closed. These special conditions are based upon Notice of Proposed Rulemaking (NPRM) 96-9 and Amendment 25-116, effective November 26, 2004, which adopted a similar requirement into § 25.809(a).

Discussion of Comments

Notice of Proposed Special Conditions No. 25-05-10-SC, pertaining to Emergency Exit Arrangement—Outside Viewing, was published in the Federal Register on August 9, 2005 (70 FR 46112). Comments were received from the Airline Pilots Association (ALPA) and the Boeing Company.

Requested change 1: ALPA recommends that “* * * a special condition should be added to require that each [emergency] exit provide rescue personnel on the exterior of the aircraft a means to either determine whether the exit's emergency assist means (slide) is armed or disarmed or a means to disarm the emergency assist means from outside the aircraft.

“Consideration must be given to the exits located on the lower deck just aft of the wing (Doors 3L & 3R). A sufficient view to determine slide usability must be ensured from inside the cabin when the exits above them have been activated and their slides deployed.”

FAA response: A means to know whether the exits are disarmed when opened from the outside is covered in § 25.810(a)(1)(i). That is, the slides must automatically disarm when opened from the outside. Regarding the second point, the means to view conditions outside the exit must be sufficient to determine slide usability regardless of whether other slides have been deployed. This requirement is implicit in § 25.809(a). Therefore, we have not changed the special condition, as proposed.

Requested change 2: The Boeing Company makes the following comment:

“The certification basis for the Airbus Model A380 does not include Amendment 25-116, which included changes to 14 CFR 25.809 (Emergency Exit Arrangement). It appears, however that the FAA is now proposing to apply the requirements of Amendment 25-116 through Special Conditions, without any novel or unusual design features. This is contrary to part 21, which clearly specifies how the type certification basis of the airplane is to be established and when Special Conditions are warranted.”

FAA response: The FAA does not agree. The full upper deck is a novel design and warrants enhanced visibility, since passengers will be evacuating from both decks and the slides deploy close to each other. Amendment 25-116 was adopted after the special condition was initiated.

This process is very similar to the way the first widebody requirements evolved: Notice of Proposed Rulemaking 69-33 contained many proposals similar to special conditions for the 747, DC-10, and L1011 airplanes and was later adopted in large part by Amendment 25-32.

Applicability

As discussed above, these special conditions are applicable to the Airbus A380-800 airplane. Should Airbus apply at a later date for a change to the type certificate to include another model incorporating the same novel or unusual design features, these special conditions would apply to that model as well under the provisions of § 21.101.

Conclusion

This action affects only certain novel or unusual design features of the Airbus A380-800 airplane. It is not a rule of general applicability.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special condition is issued as part of the type certification basis for the Airbus A380-800 airplane.

In addition to the requirements of § 25.809(a) at Amendment 25-72, the following special condition applies:

Each emergency exit must have means to permit viewing of the conditions outside the exit when the exit is closed. The viewing means may be on the exit or adjacent to it, provided that no obstructions exist between the exit and the viewing means. Means must also be provided to permit viewing of the likely areas of evacuee ground contact with the landing gear extended as well as in all conditions of landing gear collapse. A single device that satisfies both objectives is acceptable.

Issued in Renton, Washington, on August 28, 2006.
Ali Bahrami,
Manager, Transport Airplane Directorate, Aircraft Certification Service.

[FR Doc. E6-15005 Filed 9-8-06; 8:45 am]

BILLING CODE 4910-13-P